DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a)) with respect to whom the Secretary received information during the quarter ending December 31, 2008.

Last name | First name | Middle name/initials
Shah | Prashant | S.
Lubomirski | Joan |
Dallal | Henry |
Cronan | Sandra | M.
Majoni | Alessandro |
Green | Alexander |
Metcalfe | Sally | C.
Yan | Shen |
Neufeld | Herman |
Ling | Stella | H.
Bloom | Emma | Catherine.
Chung | Noah | Taesun.
Bseisu | Dinaa | Adnan.
Wang | Kevin |
O'Connor | Dennis |
Sturzenegger | Thomas | O.
Bery | Varun |
Davis | Jerome | Dean.
Oxenham | John | R.
Chantre | Elsie |
Lindstrom | Leif |
Dion | Jeremy |
Herren-Chapui | Nicole | C.
Sohnle | Susanne |
Hassani | Ali |
Lam | Alvan | Sheung-Chi.
Chemaly | Edward | Frederick.
De Cordes | Amaury |
Kallen | Maarten | Jan.
Tan | Norine | Yeah Luen.
Astor | Thomas | D.
Cornish | Davina | DeForest.
Telschow | Vincent |
O'Hana | Clea |
Herbets | Stanley | Chwan-Yeu.
Tan | Raymond | Cho Lung.
Schumer | Andrew | Robin.
Sakai | Hubert | Akihiro.
Jagger | Evelyn | Pamela.
Clegg | Marjorie |
Preece, Jr. | Robert | John.
Axelrod | Todd | Michael.
Scanlon | Marily | Fentress.
Wang | Xun | Christopher.
Hafstad | Einar | Finn.
Parsons | Christina | Abigail.
McAlpine | James | Alistair Torquil.
Ventura | Francis | Donald.
Mains | Jill | Rachel.
McAlpine | Charles | Rho.
Larsson | Robert | Wayne.
Yip | Joseph | Kwong Lam.
Fort | Peter | John.
Merson | Vladimir | David.
Masri | Leith | Munib.
Christie | Antonia | Elizabeth.
Kenyon | Mary | Jean.
Everett | Jeremy | Alexander.
Barham | Jessica | Mirand.
Penman | Frances | Barry.
Watkins | Fe | Alaan.
Barham | Jessica | Miranda.
Schumer | Andrew | Robin.

Dated: January 21, 2009.
Angie Kaminski,
Manager Team 103, Examinations Operations, Philadelphia Compliance Services.

[FR Doc. E9-2423 Filed 2-4-09; 8:45 am]

BILLING CODE 4830-01-P